INTERNATIONAL TRADE COMMISSION

[Investigation No. 731-TA-1537 (Final)]

Chassis and Subassemblies From China

Determination

On the basis of the record ¹ developed in the subject investigation, the United States International Trade Commission (“Commission”) determines, pursuant to the Tariff Act of 1930 (“the Act”), that an industry in the United States is materially injured by reason of imports of chassis and subassemblies (“chassis”) from China, provided for in subheadings 8716.39.00 and 8716.90.50 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 26694 (May 17, 2021).

Background

The Commission instituted the investigations effective July 30, 2020, following receipt of petitions filed with the Commission and Commerce by the Coalition of American Chassis Manufacturers, consisting of Cheetah Chassis Corporation, Fairless Hills, Pennsylvania, Hercules Enterprises, LLC, Hillsborough, New Jersey, Pitts Enterprises, Inc., Pittsview, Alabama, Pratt Industries, Inc., Bridgman, Michigan, and Stoughton Trailers, LLC, Stoughton, Wisconsin. The Commission scheduled the final phase of the investigations following notification of a preliminary determination by Commerce that imports of chassis from China were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of January 14, 2021 (86 FR 3193). In light of the restrictions on access to the Commission building due to the COVID-19 pandemic, the Commission conducted its hearing through written testimony and video conference on March 16, 2021. All persons who requested the opportunity were permitted to participate.

The investigation schedules became staggered when Commerce did not align its countervailing duty investigation with its antidumping duty investigation. On May 3, 2021, the Commission issued a final affirmative determination in its countervailing duty investigation of chassis from China (86 FR 24665, May 7, 2021). Following notification of a final determination by Commerce that imports of chassis from China were being sold at LTFV within the meaning of section 735(a) of the Act (19 U.S.C. 1673d(a)), notice of the supplemental scheduling of the final phase of the Commission's antidumping duty investigation was given by posting copies of the notice in the Office of the Secretary, U.S. International Trade Commission, Washington, DC, and by publishing the notice in the Federal Register on May 28, 2021 (86 FR 28893).

The Commission made this determination pursuant to § 735(b) of the Act (19 U.S.C. 1673d(b)). It completed and filed its determination in this investigation on July 1, 2021. The views of the Commission are contained in USITC Publication 5211 (July 2021), entitled Chassis and Subassemblies from China: Investigation No. 731-TA-1537 (Final).

By order of the Commission.
Issued: July 2, 2021.
Lisa Barton,
Secretary to the Commission.

[FR Doc. 2021-14567 Filed 7-7-21; 8:45 am]

BILLING CODE 7020-02-P